Title 3—

The President

Proclamation 9955 of October 25, 2019

To Modify Duty-Free Treatment Under the Generalized System of Preferences and for Other Purposes

By the President of the United States of America

A Proclamation

1. In Proclamation 9687 of December 22, 2017, after considering the factors set forth in sections 501 and 502(c) of the Trade Act of 1974, as amended, (the “1974 Act”) (19 U.S.C. 2461 and 2462(c)), I suspended the duty-free treatment accorded under the Generalized System of Preferences (GSP) (19 U.S.C. 2461 et seq.) to certain eligible articles that are the product of Ukraine. I did so after considering, in particular, the extent to which Ukraine was providing adequate and effective protection of intellectual property rights, in accordance with section 502(c)(5) of the 1974 Act (19 U.S.C. 2462(c)(5)).

2. Having once again considered the factors set forth in sections 501 and 502(c) of the 1974 Act, and in particular section 502(c)(5), I have determined that Ukraine has made progress in providing adequate and effective protection of intellectual property rights. Accordingly, it is appropriate to terminate the suspension of the duty-free treatment accorded under the GSP to certain eligible articles that are the product of Ukraine, effective 5 days after the date of this proclamation.

3. In Executive Order 11844 of March 24, 1975, the President designated Thailand as a beneficiary developing country for purposes of the GSP.

4. Sections 502(d)(1) and 503(c)(1) of the 1974 Act (19 U.S.C. 2462(d)(1) and 2463(c)(1)) provide that the President may withdraw, suspend, or limit the application of the duty-free treatment accorded under the GSP with respect to any beneficiary developing country and any article upon consideration of the factors set forth in sections 501 and 502(c) of the 1974 Act (19 U.S.C. 2461 and 2462(c)).

5. Section 502(c)(7) of the 1974 Act (19 U.S.C. 2462(c)(7)) provides that, in determining whether to designate any country as a beneficiary developing country under the GSP, the President shall take into account whether or not such country has taken or is taking steps to afford to workers in that country (including any designated zone in that country) internationally recognized worker rights.

6. Pursuant to sections 502(d)(1) and 503(c)(1) of the 1974 Act (19 U.S.C. 2462(d)(1) and 2463(c)(1)), and having considered the factors set forth in sections 501 and 502(c), including in particular section 502(c)(7) (19 U.S.C. 2462(c)(7)), I have determined that Thailand is not taking steps to afford to workers in Thailand internationally recognized worker rights. Accordingly, it is appropriate to suspend the duty-free treatment accorded under the GSP to certain eligible articles that are the product of Thailand, effective 6 months after the date of this proclamation.

7. Pursuant to section 503(c)(1) of the 1974 Act, the President may withdraw, suspend, or limit the application of the duty-free treatment accorded to specified articles under the GSP when imported from designated beneficiary developing countries.

8. Section 503(c)(2)(A) of the 1974 Act (19 U.S.C. 2463(c)(2)(A)) subjects beneficiary developing countries, except those designated as least-developed beneficiary developing countries or beneficiary sub-Saharan African countries as provided in section 503(c)(2)(D) of the 1974 Act (19 U.S.C. 2463(c)(2)(D)), to competitive need limitations on the duty-free treatment afforded to eligible articles under the GSP.

9. Pursuant to section 503(c)(2)(A) of the 1974 Act, I have determined that in 2018 certain beneficiary developing countries exported eligible articles in quantities exceeding the applicable competitive need limitations. I hereby terminate the duty-free treatment for such articles from such beneficiary developing countries.

10. Section 503(c)(2)(F)(i) of the 1974 Act (19 U.S.C. 2463(c)(2)(F)(i)) provides that the President may disregard the competitive need limitation provided in section 503(c)(2)(A)(i)(II) of the 1974 Act (19 U.S.C. 2463(c)(2)(A)(i)(II)) with respect to any eligible article from any beneficiary developing country if the aggregate appraised value of the imports of any such article into the United States during the preceding calendar year does not exceed the amount set forth in section 503(c)(2)(F)(ii) of the 1974 Act (19 U.S.C. 2463(c)(2)(F)(ii)).

11. Pursuant to section 503(c)(2)(F)(i) of the 1974 Act, I have determined that the competitive need limitation provided in section 503(c)(2)(A)(i)(II) of the 1974 Act should be disregarded with respect to certain eligible articles from certain beneficiary developing countries.

12. Section 503(d)(1) of the 1974 Act (19 U.S.C. 2463(d)(1)) provides that the President may waive the application of the competitive need limitations in section 503(c)(2) of the 1974 Act (19 U.S.C. 2463(c)(2)) with respect to any eligible article from any beneficiary developing country if certain conditions are met.

13. Pursuant to section 503(d)(1) of the 1974 Act, I have received the advice of the United States International Trade Commission on whether any industry in the United States is likely to be adversely affected by such waivers of the competitive need limitations provided in section 503(c)(2) of the 1974 Act. I have determined, based on that advice and the considerations described in sections 501 and 502(c) of the 1974 Act, and having given great weight to the considerations in section 503(d)(2) of the 1974 Act (19 U.S.C. 2463(d)(2)), that such waivers are in the national economic interest of the United States. Accordingly, I have determined that the competitive need limitations of section 503(c)(2) of the 1974 Act should be waived with respect to an article from a certain beneficiary developing country.

14. Section 503(c)(2)(C) of the 1974 Act (19 U.S.C. 2463(c)(2)(C)) provides that a country that is no longer treated as a beneficiary developing country with respect to an eligible article may be redesignated as a beneficiary developing country with respect to such article, subject to the considerations set forth in sections 501 and 502 of the 1974 Act, if imports of such article from such country did not exceed the competitive need limitations in section 503(c)(2)(A) of the 1974 Act during the preceding calendar year.

15. Pursuant to section 503(c)(2)(C) of the 1974 Act, and having taken into account the considerations set forth in sections 501 and 502 of the 1974 Act, I have determined to redesignate certain countries as beneficiary developing countries with respect to certain eligible articles that during the preceding calendar year had been imported in quantities not exceeding the competitive need limitations of section 503(c)(2)(A) of the 1974 Act.

16. Section 503(c)(2)(E) of the 1974 Act (19 U.S.C. 2463(c)(2)(E)) provides that the competitive need limitation provided in section 503(c)(2)(A)(i)(II) of the 1974 Act shall not apply with respect to any eligible article if a like or directly competitive article was not produced in the United States in any of the preceding three calendar years.

17. Pursuant to section 503(c)(2)(E) of the 1974 Act, I have determined that the competitive need limitation provided in section 503(c)(2)(A)(i)(II) of the 1974 Act does not apply with respect to a certain eligible article from a certain beneficiary developing country.

18. In Proclamation 9072 of December 23, 2013, the President designated Mali as a beneficiary sub-Saharan African country pursuant to section 506A(a)(1) of the 1974 Act (19 U.S.C. 2466a(a)(1)), as added by section 111(a) of the African Growth and Opportunity Act (Title I, Public Law 106-200) (AGOA).

19. Section 112(c) of the AGOA, as amended in section 6002 of the Africa Investment Incentive Act of 2006 (Division D, Title VI, Public Law 109-432 (19 U.S.C. 3721(c))), provides special rules for certain apparel articles imported from “lesser developed beneficiary sub-Saharan African countries.”

20. I have determined that Mali satisfies the criterion for treatment as a “lesser developed beneficiary sub-Saharan African country” under section 112(c) of the AGOA.

21. The short-form name of “Macedonia” has changed to “North Macedonia,” and I have determined that general note 4(a) and Chapter 99, Subchapter III, U.S. notes 17(b)(2) and 18(b), to the HTS should be modified to reflect this change.

22. Section 604 of the 1974 Act (19 U.S.C. 2483) authorizes the President to embody in the Harmonized Tariff Schedule of the United States (HTS) the substance of the relevant provisions of the 1974 Act, and of other Acts affecting import treatment, and actions thereunder, including removal, modification, continuance, or imposition of any rate of duty or other import restriction.

NOW, THEREFORE, I, DONALD J. TRUMP, President of the United States of America, acting under the authority vested in me by the Constitution and the laws of the United States of America, including title V and section 604 of the 1974 Act; sections 111(a) and 112(c) of the AGOA; and section 6002 of the Africa Investment Incentive Act of 2006, do hereby proclaim that:

(1) The suspension of the duty-free treatment accorded under the GSP to certain eligible articles that are the product of Ukraine is terminated, effective 5 days after the date of this proclamation.

(2) In order to reflect in the HTS this termination of the suspension of certain benefits with respect to Ukraine, general note 4(d) and pertinent subheadings of the HTS are modified as set forth in Annex 1 to this proclamation.

(3) The duty-free treatment accorded under the GSP to certain eligible articles that are the product of Thailand is suspended, effective 6 months after the date of this proclamation.

(4) In order to reflect in the HTS this suspension of certain benefits under the GSP with respect to Thailand, general note 4(d) and pertinent subheadings of the HTS are modified as set forth in Annex 2 to this proclamation.

(5) In order to provide that one or more countries should no longer be treated as beneficiary developing countries with respect to one or more eligible articles for purposes of the GSP, the Rates of Duty 1-Special subcolumn for the corresponding HTS subheadings and general note 4(d) to the HTS are modified as set forth in section A and B of Annex 3 and Annex 7 to this proclamation.

(6) In order to redesignate certain articles as eligible articles for purposes of the GSP, the Rates of Duty 1-Special subcolumn for the corresponding HTS subheadings and general note 4(d) to the HTS are modified as set forth in sections C, D, E, and F of Annex 3 and sections A and B of Annex 6 to this proclamation.

(7) The competitive need limitation provided in section 503(c)(2)(A)(i)(II) of the 1974 Act is disregarded with respect to the eligible articles in the HTS subheadings and to the beneficiary developing countries set forth in Annex 4 to this proclamation.

(8) A waiver of the application of section 503(c)(2) of the 1974 Act shall apply to the eligible article in the HTS subheading and to the beneficiary developing country set forth in Annex 5 to this proclamation.

(9) For purposes of section 112(c) of the AGOA, Mali is a lesser developed beneficiary sub-Saharan African country.

(10) In order to provide for Mali the tariff treatment intended under section 112 of the AGOA, note 2(d) to subchapter XIX of chapter 98 of the HTS is modified by inserting in alphabetical sequence in the list of lesser developed beneficiary sub-Saharan African countries “Republic of Mali”.

(11) The modification to the HTS made by paragraph (10) of this proclamation shall enter into effect on the 30th day after publication of this proclamation in the Federal Register.

(12) In order to reflect the change in the name of Macedonia, general note 4(a) and Chapter 99, Subchapter III, U.S. notes 17(b)(2) and 18(b), to the HTS are modified as set forth in Annex 7 to this proclamation.

(13) The modifications to the HTS set forth in Annex 3, Annex 6, and Annex 7 of this proclamation shall be effective with respect to articles entered for consumption, or withdrawn from warehouse for consumption, on or after 12:01 a.m. eastern daylight time on November 1, 2019.

(14) Any provisions of previous proclamations and Executive Orders that are inconsistent with the actions taken in this proclamation are superseded to the extent of such inconsistency.

IN WITNESS WHEREOF, I have hereunto set my hand this twenty-fifth day of October, in the year of our Lord two thousand nineteen, and of the Independence of the United States of America the two hundred and forty-fourth.

Billing code 3295-F0-P

[FR Doc. 2019-24008

Filed 10-30-19; 11:15 a.m.]

Billing code 7020-02-C